DEPARTMENT OF COMMERCE

Patent and Trademark Office

Agency Information Collection Activities; Submission to the Office of Management and Budget (OMB) for Review and Approval; Comment Request; Applications for Trademark Registration

AGENCY: United States Patent and Trademark Office, Department of Commerce.

ACTION: Notice of information collection; request for comment.

SUMMARY: The United States Patent and Trademark Office (USPTO), as required by the Paperwork Reduction Act of 1995, invites comments on the extension and revision of an existing information collection: 0651-0009 (Applications for Trademark Registration). The purpose of this notice is to allow 60 days for public comment preceding submission of the information collection to OMB.

DATES: To ensure consideration, comments regarding this information collection must be received on or before June 24, 2024.

ADDRESSES: Interested persons are invited to submit written comments by any of the following methods. Do not submit Confidential Business Information or otherwise sensitive or protected information.

• Email: InformationCollection@uspto.gov. Include “0651-0009 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email at Catherine.Cain@uspto.gov with “0651-0009 comment” in the subject line. Additional information about this information collection is also available at http://www.reginfo.gov under “Information Collection Review.”

SUPPLEMENTARY INFORMATION:

I. Abstract

The United States Patent and Trademark Office (USPTO) administers the Trademark Act (Act), 15 U.S.C. 1051 et seq., which provides for the federal registration of trademarks, service marks, collective trademarks and service marks, collective membership marks, and certification marks. Individuals and businesses that use or intend to use such marks in commerce may file an application to register their marks with the USPTO. Registered marks may remain on the register indefinitely, so long as the owner of the registration files the necessary maintenance documents.

This information collection addresses submissions required by the regulations at 37 CFR part 2 for initial applications regarding the registration of trademarks, service marks, collective trademarks and service marks, collective memberships marks, and certification marks. Trademarks can be registered on either the Principal or Supplemental Register. The Trademark Act and rules mandate that each certificate of registration include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another. The federal trademark registration process may thereby reduce the number of filings between both litigating parties and the courts.

II. Method of Collection

Items in this information collection must be submitted electronically. In limited circumstances, applicants may also be permitted to submit the information in paper form by mail, fax, or hand delivery.

III. Data

OMB Control Number: 0651-0009.

Forms:

• PTO-1478 (Trademark/Service Mark Application, Principal Register)

• PTO-1479 (Trademark/Service Mark Form, Supplemental Register)

• PTO-1480 (Certification Mark Form, Principal Register)

• PTO-1481 (Collective Membership Mark Form, Principal Register)

• PTO-1482 (Collective Trademark/Service Mark Form, Principal Register)

Type of Review: Extension and revision of a currently approved information collection.

Affected Public: Private sector.

Respondent's Obligation: Required to obtain or retain benefits.

Estimated Number of Annual Respondents: 581,377 respondents.

Estimated Number of Annual Responses: 581,377 responses.

Frequency: On occasion.

Estimated Time per Response: The USPTO estimates that the responses in this information collection will take the public approximately between 45 minutes (0.75 hours) and 1 hour to complete. This includes the time to gather the necessary information, create the document, and submit the completed request to the USPTO.

Estimated Total Annual Respondent Burden Hours: 508,394 hours.

Estimated Total Annual Respondent Hourly Cost Burden: $227,252,118.

Table 1—Total Burden Hours and Hourly Costs to Private Sector Respondents
Item No. | Item | Estimated annual respondents | Responses per respondent | Estimated annual responses | Estimated time for response (hours) | Estimated Burden (hour/year) | Rate ¹ ($/hour) | Estimated annual respondent cost burden
|  | (a) | (b) | (a) × (b) = (c) | (d) | (c) × (d) = (e) | (f) | (e) × (f) = (g)
1 | Use-Based Trademark/Service Mark Applications (TEAS Standard) | 71,914 | 1 | 71,914 | 0.83 (50 minutes) | 59,689 | $447 | $26,680,983
1 | Use-Based Trademark/Service Mark Applications (TEAS Plus) | 217,872 | 1 | 217,872 | 1 | 217,872 | 447 | 97,388,784
1 | Use-Based Trademark/Service Mark Applications (Paper) | 1 | 1 | 1 | 1 | 1 | 447 | 447
2 | Intent to Use Trademark/Service Mark Application (TEAS Standard) | 121,227 | 1 | 121,227 | 0.75 (45 minutes) | 90,920 | 447 | 40,641,240
2 | Intent to Use Trademark/Service Mark Application (TEAS Plus) | 142,832 | 1 | 142,832 | 0.83 (50 minutes) | 118,551 | 447 | 52,992,297
2 | Intent to Use Trademark/Service Mark Application (Paper) | 1 | 1 | 1 | 1 | 1 | 447 | 447
3 | Application for Registration of Trademark/Service Mark under 37 CFR 44 (TEAS Standard) | 18,632 | 1 | 18,632 | 0.75 (45 minutes) | 13,974 | 447 | 6,246,378
3 | Application for Registration of Trademark/Service Mark under 37 CFR 44 (TEAS Plus) | 8,897 | 1 | 8,897 | 0.83 (50 minutes) | 7,385 | 447 | 3,301,095
3 | Application for Registration of Trademark/Service Mark under 37 CFR 44 (Paper) | 1 | 1 | 1 | 1 | 1 | 447 | 447
Totals |  | 581,377 |  | 581,377 |  | 508,394 |  | 227,252,118

Estimated Total Annual Respondent Non-hourly Cost Burden: $166,906,580. There are no capital start-up, maintenance costs, or recordkeeping costs associated with this information collection. However, the USPTO estimates that the total annual non-hour cost burden for this information collection, in the form of filling fees, processing fees, and postage costs, is $166,906,580.

¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Filing Fees

A complete application must include a filing fee for each class of goods and services. Therefore, the total filing fees associated with this information collection can vary depending on the number of classes in each application. The total filing fees shown in the table below reflect the minimum filing fees associated with this information collection.

Table 2—Filing Fees
Item No. | Fee code | Item | Estimated annual responses | Filing fee ($) | Non-hourly cost burden
|  |  | (a) | (b) | (a) × (b) = (c)
1 | 7009 | Use-Based Trademark/Service Mark Applications (TEAS Standard) | 71,914 | $350 | $25,169,900
1 | 7007 | Use-Based Trademark/Service Mark Applications (TEAS Plus) | 217,872 | 250 | 54,468,000
1 | 6001 | Use-Based Trademark/Service Mark Applications (Paper) | 1 | 750 | 750
2 | 7009 | Intent to Use Trademark/Service Mark Application (TEAS Standard) | 121,227 | 350 | 42,429,450
2 | 7007 | Intent to Use Trademark/Service Mark Application (TEAS Plus) | 142,832 | 250 | 35,708,000
2 | 6001 | Intent to Use Trademark/Service Mark Application (Paper) | 1 | 750 | 750
3 | 7009 | Applications for Registration of Trademark/Service Mark under 37 CFR 44 (TEAS Standard) | 18,632 | 350 | 6,521,200
3 | 7007 | Applications for Registration of Trademark/Service Mark under 37 CFR 44 (TEAS Plus) | 8,897 | 250 | 2,224,250
3 | 6001 | Applications for Registration of Trademark/Service Mark under 37 CFR 44 (Paper) | 1 | 750 | 750
Totals |  |  | 581,377 |  | 166,523,050

Processing Fees

The USPTO charges a processing fee of $100 per class for TEAS Plus applications that do not meet the TEAS Plus filing requirements. The total processing fees associated with this information collection can vary depending on the number of classes in each application.

The total processing fees shown in the table below reflect the minimum processing fees associated with this information collection.

Table 3—Processing Fees
Item No. | Item | Estimated annual responses | Filing Fee ($) | Non-hourly cost burden
|  | (a) | (b) | (a) × (b) = (c)
1 | Processing fee for use-based application that fails to meet the additional filing requirements for reduced filing fee (TEAS Plus) | 1,911 | $100 | $191,100
2 | Processing fee for intent-to-use application that fails to meet the additional filing requirements for reduced filing fee (TEAS Plus) | 1,742 | 100 | 174,200
3 | Processing fee for Section 44 application that fails to meet the additional filing requirements for reduced filing fee (TEAS Plus) | 182 | 100 | 18,200
Totals |  | 3,835 |  | 383,500

Postage Costs

In limited circumstances, applicants may be permitted to submit the information in paper form by mail, fax, or hand delivery. Applicants and registrants incur postage costs when submitting information to the USPTO by mail through the United States Postal Service. The USPTO estimates that 3 items will be submitted in the mail. The USPTO estimates that the average postage cost for a mailed submission, using a Priority Mail legal flat rate envelope, will be $10.15. Therefore, the USPTO estimates the total mailing costs for this information collection at $30.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-08756 Filed 4-23-24; 8:45 am]

BILLING CODE 3510-16-P